ENVIRONMENTAL PROTECTION AGENCY

[EPA-HQ-OPP-2009-0879; FRL-9801-02-OCSPP]

Environmental Modeling Public Meeting; Notice of Public Meeting (Virtual and In-Person)

AGENCY: Environmental Protection Agency (EPA).

ACTION: Notice.

SUMMARY: EPA will hold an Environmental Modeling Public Meeting (EMPM) on Tuesday, October 10, 2023, with participation by in-person, phone, and webcast. This Notice announces the meeting and provides information on its theme. The EMPM provides a public forum for EPA and its stakeholders to discuss current issues related to modeling pesticide fate, transport, exposure, and ecotoxicity for pesticide risk assessments in a regulatory context.

DATES: This meeting will be held on Tuesday, October 10, 2023, from 9:00 a.m. to approximately 4:30 p.m. EDT.

Requests to participate: Requests to attend the meeting must be submitted on or before October 3, 2023. Requests to present with an accompanying abstract must be submitted on or before September 1, 2023.

ADDRESSES: The meeting will be held in the Oceans Auditorium of the William Jefferson Clinton (WJC) East Building at the Environmental Protection Agency, 1200 Pennsylvania Ave. NW, Washington, DC 20460-0001.

FOR FURTHER INFORMATION CONTACT: The 2023 EMPM Co-chairs, Jessica Joyce and William Gardner; telephone number: (202) 566-1690; email address: OPP_EMPM@epa.gov.

SUPPLEMENTARY INFORMATION:

I. General Information

A. Does this action apply to me?

You may be potentially affected by this action if you are a pesticide registrant, a potential pesticide registrant, or a user of a pesticide under the Toxic Substances Control Act (TSCA), the Federal Food, Drug, and Cosmetic Act (FFDCA), or the Federal Insecticide, Fungicide, and Rodenticide Act (FIFRA). Since other entities may also be interested, the Agency has not attempted to describe all the specific entities that may be affected by this action. The following list of North American Industrial Classification System (NAICS) codes is not intended to be exhaustive, but rather provides a guide to help readers determine whether this document applies to them. Potentially affected entities may include:

• Agriculture, Forestry, Fishing and Hunting NAICS code 11.

• Utilities NAICS code 22.

• Professional, Scientific and Technical NAICS code 54.

B. How can I get copies of this document and other related information?

The docket for this action, identified by docket identification (ID) number EPA-HQ-OPP-2009-0879, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the OPP Docket and Public Reading Room is (202) 566-1744. Please review the visitor instructions and additional information about the docket available at https://www.epa.gov/dockets.

II. Background

The purpose of the EMPM is for presentation and discussion of current issues related to modeling pesticide fate, transport, and exposure for ecological risk assessment in a regulatory context.

III. How do I register to participate in this meeting?

To register to attend and/or to present, please send an email to OPP_EMPM@epa.gov by the dates specified under the DATES heading in this notice. You must register via email to receive the webcast meeting link and audio teleconference information for participation. Meeting updates and participation information will be distributed through “empmlist.” Do not submit any information in your request that is considered Confidential Business Information (CBI).

IV. What is the topic for this meeting?

The 2023 EMPM will provide a forum for presentations and discussions on surface water and groundwater modeling and endangered species assessment modeling. EPA will present information on updated Pesticide in Water Calculator (PWC) surface water and groundwater scenarios, including the recent development of spatially diverse groundwater scenarios.

In addition, EPA will provide updates on modeling approaches to support endangered species assessments and evaluation of mitigation measures including EPA's Plant Assessment Tool (PAT) and Vegetative Filter Strip Modeling System (VFSMod).

Authority: 7 U.S.C. 136 et seq.

Dated: August 3, 2023.
Jan Matuszko,
Director, Environmental Fate and Effects Division, Office of Pesticide Programs.

[FR Doc. 2023-17056 Filed 8-8-23; 8:45 am]

BILLING CODE 6560-50-P